DEPARTMENT OF COMMERCE

National Oceanic and Atmospheric Administration

[I.D. 062904E]

Pacific Fishery Management Council; Public Hearings

AGENCY: National Marine Fisheries Service (NMFS), National Oceanic and Atmospheric Administration (NOAA), Commerce.

ACTION: Notice of public hearings.

SUMMARY: The Pacific Fishery Management Council (Council) and NMFS will hold two public scoping hearings on alternatives and impacts to be included in an environmental impact statement (EIS) on dedicated access privileges for the Pacific Coast groundfish trawl fishery.

DATES: The hearings will be held Tuesday, July 20, 2004, at 3 p.m. and Tuesday, July 27, 2004, at 3:30 p.m.

ADDRESSES: The hearings will be held respectively at the Jim Traynor Conference Room, Building 4, 7600 Sand Point Way, Seattle, WA 98115; telephone: (206) 526-4490 and in the Auditorium of the Mark O. Hatfield Marine Science Center, 2030 S. Marine Science Drive, Newport, OR 97365; telephone: (541) 867-0212.

FOR FURTHER INFORMATION CONTACT: Jim Seger, Staff Officer (Economist); Pacific Fishery Management Council, 7700 NE Ambassador Place, Suite 200, Portland, OR 97220-1384; telephone (503) 820-2280.

SUPPLEMENTARY INFORMATION: The Council and NMFS announced their intent to hold public scoping meetings on May 24, 2004, (69 FR 29482-29485) when the Council and NMFS issued their notice of intent to prepare an EIS on dedicated access privileges for the Pacific Coast groundfish trawl fishery. The first scoping meeting was held June 13, 2004, in conjunction with a Council meeting in Foster City, CA. The purpose of these hearings is to identify alternatives to be considered and the notable impacts that should be evaluated. These scoping hearings are not intended as a forum for comments in favor of or opposed to the alternatives. A scoping information pamphlet and detailed public scoping information document are available from the Council website (www.pcouncil.org) or on request from the Council office (see ADDRESSES).

The hearings will be restricted to those issues specifically listed in this document.

Special Accommodations

The meeting is physically accessible to people with disabilities. Requests for sign language interpretation or other auxiliary aids should be directed to Ms. Carolyn Porter at (503) 820-2280 at least 5 days prior to the meeting date.

Dated: July 1, 2004.
Alan D. Risenhoover,
Acting Director, Office of Sustainable Fisheries, National Marine Fisheries Service.

[FR Doc. E4-1487 Filed 7-6-04; 8:45 am]

BILLING CODE 3510-22-S